DEPARTMENT OF HEALTH AND HUMAN SERVICES

National Institutes of Health

Prospective Grant of Co-Exclusive License: Compositions and Methods Related to the Detection of Philadelphia Chromosome Translocations

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of a limited field of use worldwide co-exclusive license to DAKO Corporation, in all countries except Japan, to practice the invention embodied in U.S. Patent 4,681,840 entitled U.S. “Deoxyribonucleic acid molecules useful as probes for detecting oncogenes incorporated into chromosomal DNA”, which issued on July 21, 1987 from Patent Application Serial No. 06/571,911 filed on January 18, 1984. DAKO Corporation is a corporation of Denmark having a place of business in Carpenteria, California. The patent rights in this invention have been assigned to the United States of America, as represented by the Department of Health and Human Services.

DATES: Only written comments and/or application for a license which are received by the NIH Office of Technology Transfer on or before June 11, 2001 will be considered.

ADDRESSES: Requests for a copy of the patent applications, inquiries, comments and other materials relating to the contemplated license should be directed to: Catherine Joyce, Ph.D., J.D., Technology Licensing Specialist, Office of Technology Transfer, National Institutes of Health, 6011 Executive Boulevard, Suite 325, Rockville, MD 20852-3804; Telephone: (301) 496-7056, ext. 258; Facsimile: (301) 402-0220.

SUPPLEMENTARY INFORMATION: The patent applications describe compositions and methods related to the detection of chromosomal translocations, particularly the bcr/abl translocation which has been demonstrated to be associated with the Philadelphia chromosome and chronic myelogenous leukemia.

The prospective co-exclusive license will be royalty-bearing and will comply with the terms and conditions of 35 U.S.C. 209 and 37 CFR 404.7. The prospective co-exclusive license may be granted unless, within 60 days from the date of this published Notice, NIH has received written evidence and argument that establishes that the grant of the license would not be consistent with the requirements of 35 U.S.C. 209 and 37 CFR 404.7.

The field of use may be limited to the use of the invention for research and clinical nucleic acid hybridization techniques for the detection of bcr/abl translocations.

Properly filed competing applications for a license filed in response to this notice will be treated as objections to the contemplated license. Comments and objections submitted in response to this notice will not be made available for public inspection, and, to the extent permitted by law, will not be released under the Freedom of Information Act, 5 U.S.C. 552.

Dated: April 3, 2001.
Jack Spiegel,
Director, Division of Technology Development and Transfer, Office of Technology Transfer.

[FR Doc. 01-9014 Filed 4-11-01; 8:45 am]

BILLING CODE 4140-01-P